FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington DC 20551-0001, not later than October 28, 2019.

A. Federal Reserve Bank of Chicago (Colette A. Fried, Assistant Vice President) 230 South LaSalle Street, Chicago, Illinois 60690-1414:

1. Betty Jean Neighbor Irrevocable Trust dated December 28, 2012, Gene R. Neighbor as Family Business Advisor, both of Marion, Iowa; Douglas N. Neighbor Irrevocable Trust dated December 29, 2012, Marva J. Neighbor as Family Business Advisor, both of Marion, Iowa; Gene R. Neighbor Irrevocable Trust dated December 29, 2012, Betty J. Neighbor as Family Business Advisor, both of Marion, Iowa; Irene Kay Neighbor Irrevocable Trust dated December 28, 2012, Kent M. Neighbor as Family Business Advisor, both of Winthrop, Iowa; Kent M. Neighbor Irrevocable Trust dated December 29, 2012, Irene K. Neighbor as Family Business Advisor, both of Winthrop, Iowa; and Marva J. Neighbor Irrevocable Trust dated December 28, 2012, Douglas N. Neighbor as Family Business Advisor, both of Marion, Iowa; together with Justin M. Waring, Marion, Iowa; Amber K. Waring, Toddville, Iowa; Shannon M. Waring, Woodbury, Minnesota; Brandon K. Waring, Toddville, Iowa; Callie I. Neighbor, Center Point, Iowa; Chloe A. Neighbor, Center Point, Iowa; Allyssa K. Dierks, Central City, Iowa; Jordan S. Neighbor, Marion, Iowa; Austin K. Neighbor, Marion, Iowa; Jenna L. Neighbor, Center Point, Iowa; Grant E. Neighbor, Central City, Iowa; Luke C. Neighbor, Central City, Iowa; and 11 minor grandchildren; to be approved as members acting in concert with the Neighbor Family Control Group to retain voting shares of Neighbor Insurance Agency, Inc., and thereby indirectly retain voting shares of Farmers State Bank, both of Marion, Iowa.

Board of Governors of the Federal Reserve System, October 8, 2019.
Yao-Chin Chao,
Assistant Secretary of the Board.

[FR Doc. 2019-22321 Filed 10-10-19; 8:45 am]

BILLING CODE P